NATIONAL AERONAUTICS AND SPACE ADMINISTRATION

[Notice 02-073]

NASA Advisory Council, Biological and Physical Research Advisory Committee Commercial Advisory Subcommittee; Meeting

AGENCY: National Aeronautics and Space Administration.

ACTION: Notice of meeting.

SUMMARY: In accordance with the Federal Advisory Committee Act, Public Law 92-463, as amended, the National Aeronautics and Space Administration announces a meeting of the NASA Advisory Council, Biological and Physical Research Advisory Committee, Commercial Advisory Subcommittee.

DATES: Wednesday, June 19, 2002, 8 a.m. to 5 p.m.

ADDRESSES: National Aeronautics and Space Administration, Room 3P44, 300 E Street, SW., Washington, DC 20546.

FOR FURTHER INFORMATION CONTACT: Ms. Candace Livingston, Code UM, National Aeronautics and Space Administration, Washington, DC 20546, 202-358-0697.

SUPPLEMENTARY INFORMATION: The meeting will be open to the public to the seating capacity of the room. Advance notice of attendance to the Executive Secretary is requested. The agenda for the meeting will include the following topics:

—Report of the REMAP Task Force Team

—Status of the entire NASA Commercial Program

—Status of the Non-Government Organization

—Committee Concerns

—Staffing the Division

—Public Information on Commercial Accomplishments

—Role of the CAS and Its Membership

It is imperative that the meeting be held on this date to accommodate the scheduling priorities of the key participants. Visitors will be requested to sign a visitor's register.

Dated: May 31, 2002.
Sylvia K. Kraemer,
Advisory Committee Management Officer, National Aeronautics and Space Administration.

[FR Doc. 02-14408 Filed 6-7-02; 8:45 am]

BILLING CODE 7510-01-P